ENVIRONMENTAL PROTECTION AGENCY

[EPA-HQ-OPP-2013-0025; FRL-9383-7]

Notice of Receipt of Pesticide Products; Registration Applications To Register New Uses

AGENCY: Environmental Protection Agency (EPA).

ACTION: Notice.

SUMMARY: This notice announces receipt of applications to register new uses for pesticide products containing currently registered active ingredients pursuant to the provisions of section 3(c) of the Federal Insecticide, Fungicide, and Rodenticide Act (FIFRA), as amended. This notice provides the public with an opportunity to comment on the applications.

DATES: Comments must be received on or before May 13, 2013.

ADDRESSES: Submit your comments, identified by docket identification (ID) number and the EPA Registration Number or EPA File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone, email, or mail. Mail correspondence to the Registration Division (7505P), Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register new uses for pesticide products containing currently registered active ingredients. Pursuant to the provisions of FIFRA section 3(c)(4), EPA is hereby providing notice of receipt and opportunity to comment on these applications. Notice of receipt of these applications does not imply a decision by the Agency on these applications. For actions being evaluated under the Agency's public participation process for registration actions, there will be an additional opportunity for a 30-day public comment period on the proposed decision. Please see the Agency's public participation Web site for additional information on this process (http://www.epa.gov/pesticides/regulating/registration-public-involvement.html). EPA received the following applications to register new uses for pesticide products containing currently registered active ingredients:

1. EPA Registration Numbers: 100-739 and 100-1262. Docket ID Number: EPA-HQ-OPP-2013-0151. Applicant: Syngenta Crop Protection LLC, P.O. Box 18300, Greensboro, NC 27419. Active ingredient: Difenoconazole. Product Type: Fungicide. Proposed Use: Canola. Contact: Rose Mary Kearns, (703) 305-5611, email address: kearns.rosemary@epa.gov.

2. EPA Registration Numbers: 100-1254 and 100-1281. Docket ID Number: EPA-HQ-OPP-2012-1254. Applicant: Syngenta Crop Protection LLC, P.O. Box 18300, Greensboro, NC 27419. Active ingredient: Mandipropamid. Product Type: Fungicide. Proposed Uses: Ginseng; Basil; Succulent Bean, Small Fruit Vine, subgroup 13-07B; Bulb Onion, subgroups 3-07 A and B; Fruiting Vegetable group 8-10; and Greenhouse Tomato. Contact: Rose Mary Kearns, (703) 305-5611, email address: kearns.rosemary@epa.gov.

3. EPA Registration Numbers: 264-693 and 264-695. Docket ID Number: EPA-HQ-OPP-2013-0161. Applicant: Bayer CropScience LP, 2 T.W. Alexander Drive, P.O. Box 1214, Research Triangle Park, NC 27709. Active ingredient: Fenamidone. Product Type: Fungicide. Proposed Uses: Bean, succulent; Ginseng; Onion, bulb, subgroup 3-07A; and Onion, green, subgroup 3-07B. Contact: Rose Mary Kearns, (703) 305-5611, email address: kearns.rosemary@epa.gov.

4. EPA Registration Number: 7969-278. Docket ID Number: EPA-HQ-OPP-2013-0008. Applicant: BASF Corporation, 26 Davis Drive, P.O. Box 13528, Research Triangle Park, NC 27709-3528. Active ingredient: Saflufenacil. Product Type: Herbicide. Proposed Uses: For use in rice paddies that are also used for aquaculture of fish and crayfish production. Contact: Bethany Benbow, (703) 347-8072, email address: benbow.bethany@epa.gov.

5. EPA Registration Number: 71512-7. Docket ID Number: EPA-HQ-OPP-2013-0038. Applicant: ISK Bioscience Corporation, 7470 Auburn Road, Suite A, Concord, OH 44077. Active ingredient: Flonicamid. Product Type: Insecticide. Proposed Use: Technical Flonicamid Insecticide for Manufacturing and Repacking Use Only Products for use in/on Almond; Almond, hulls; Pecans; and Tree Nuts, crop group 4-12. Contact: Carmen Rodia, (703) 306-0327, email address: rodia.carmen@epa.gov.

6. EPA Registration Numbers: 71512-9 and 71512-10. Docket ID Number: EPA-HQ-OPP-2013-0038. Applicant: ISK Bioscience Corporation, 7470 Auburn Road, Suite A, Concord, OH 44077. Active ingredient: Flonicamid. Product Type: Insecticide. Proposed Uses: Almond; Almond, hulls; Pecans; and Tree Nuts, crop group 14-12. Contact: Carmen Rodia, (703) 306-0327, email address: rodia.carmen@epa.gov.

7. EPA Registration Number/EPA File Symbol: 71512-14. Docket ID Number: EPA-HQ-OPP-2013-0038. Applicant: ISK Bioscience Corporation, 7470 Auburn Road, Suite A, Concord, OH 44077. Active ingredient: Flonicamid. Product Type: Insecticide. Proposed Uses: Flonicamid 50WG for Manufacturing and Repacking Use Only Products for use in/on Almond; Almond, hulls; Pecans; and Tree Nuts, crop group 14-12. Contact: Carmen Rodia, (703) 306-0327, email address: rodia.carmen@epa.gov.

List of Subjects

Environmental protection, Pesticides and pest.

Dated: April 5, 2013.
Lois Rossi,
Director, Registration Division, Office of Pesticide Programs.

[FR Doc. 2013-08685 Filed 4-11-13; 8:45 am]

BILLING CODE 6560-50-P